ENVIRONMENTAL PROTECTION AGENCY

[ER-FRL-6660-9]

Environmental Impact Statements and Regulations; Availability of EPA Comments

Availability of EPA comments prepared pursuant to the Environmental Review Process (ERP), under section 309 of the Clean Air Act and Section 102(2)(c) of the National Environmental Policy Act, as amended. Requests for copies of EPA comments can be directed to the Office of Federal Activities at (202) 564-7167.

An explanation of the ratings assigned to draft environmental impact statements (EISs) was published in the Federal Register dated April 2, 2004 (69 FR 17403).

Draft EISs

ERP No. D-FHW-F40427-WI Rating EC2, WI-23 Highway Project, Transportation Improve between Fond du Lac and Plymouth, Funding, Fond du Lac and Sheboygan Counties, WI.

Summary: EPA has environmental concerns about the proposed project's impacts to wetlands, water quality, air quality, stormwater management, noise, cumulative impacts, and leaking underground storage tanks.

ERP No. D-FHW-J40168-UT Rating EC2, 11400 South Project, Proposed Improvement to the Transportation Network in the Southern Salt Lake Valley from 12300/12600 South to 10400/10600 South, and from Bangerter Highway to 700 East, Salt Lake City, Salt Lake County, UT.

Summary: EPA has environmental concerns about the proposed project regarding indirect and cumulative impacts, which were not adequately analyzed in the document.

ERP No. D-IBR-K30031-CA Rating 3, Central Valley Project, San Luis Unit Long-Term Water Service Contract Renewal, West San Joaquin Division, Cities of Avenal, Coalinga and Huron, Fresno, King and Merced Counties, CA.

Summary: EPA commented that the Draft EIS did not analyze the proposed federal action of full delivery of contract quantities, the existing conditions and ongoing water quality degradation in the area, or the influence of drainage management on the proposed action. EPA recommended a Revised or Supplemental EIS be prepared that fully analyzes the proposed federal action and its potential environmental impacts.

ERP No. D-NPS-K65275-AZ Rating EC2, Colorado River Management Plan, To Provide a Wilderness-Type River Experience for Visitors, General Management Plan, Grand Canyon National Park, Colorado River, Coconino County, AZ.

Summary: EPA expressed concerns about the project's potential impacts to water quality and insufficient information regarding appropriate mitigation to minimize and avoid those impacts. EPA recommended that the National Park Service, Hualapai Tribe, and other partners obtain baseline and periodic water quality monitoring information in the lower gorge and adaptively manage activities over the life of this plan.

ERP No. DR-CBP-K99031-AZ Rating EC2, Programmatic EIS—Office of Border Patrol Operational Activities within the Border Areas of the Tucson and Yuma Sectors, Expansion of Operations of Technology-Based Systems, Completion and Maintenance of Approved Infrastructure, Cochise, Pima, Santa Cruz and Yuma Counties, AZ.

Summary: EPA expressed environmental concerns about the project's impacts to air quality and wildlife habitat and requested additional information regarding the proposed action, mitigation, and the relationship to JTF-6 be included in the Final EIS.

Final EISs

ERP No. F-FHW-G40179-TX, Kelly Parkway Project, Construction from U.S. 90 to TX-16, to Improvement Transportation Mobility, Facilitate Economic Development, and Enhance Safety, Funding and U.S. Army COE Section 404 Permit, San Antonio, Bexar County, TX.

Summary: EPA did not send a comment letter on the Final EIS.

ERP No. F-IBR-K39080-CA, Mendota Pool 10-Year Exchange Agreements, Water Provision to Irrigable Lands, Central Valley Project Improvement Act (CVPIA), Fresno and Madera Counties, CA.

Summary: EPA expressed continuing concerns regarding the potential for adverse impacts to groundwater quality in the Mendota Pool area, and requested more frequent monitoring and commitments to mitigate impacts.

ERP No. F-NRS-A36450-00, Programmatic EIS—Emergency Watershed Protection Program, Improvements and Expansion, To Preserve Life and Property Threatened by Disaster-Caused Erosion and Flooding, U.S. 50 States and Territories except Coastal Area.

Summary: EPA continued to recommend that the NRCS take steps to better integrate management of its watershed programs. EPA also requested clarification as to whether the NRCS will discontinue the use of a “least-cost” criterion when deciding whether to apply the principles of natural stream dynamics and bioengineering to the design of EWP restoration efforts.

ERP No. F-NSF-A99224-00, Development and Implementation of Surface Travese Capabilities in Antarctia Comprehensive Environmental Evaluation, Antarctica.

Summary: EPA has no objections to the proposed action.

ERP No. F-SFW-J64009-CO, Rocky Flats National Wildlife Refuge Comprehensive Conservation Plan, 15-Year Guidance for Management of Refuge Operations, Habitat Restoration and Visitor Services, Implementation, Jefferson and Boulder Counties, CO.

Summary: EPA acknowledge that the Final EIS was generally responsive to EPA's concerns and provided additional information environmental issues associated with the DOE-retained lands and the potential transportation corridor impacts on the wildlife refuge. EPA continued to express concerns that the indirect impacts of proposed development could have been more strongly encouraged.

Dated: February 22, 2005.
Robert W. Hargrove,
Director, NEPA Compliance Division, Office of Federal Activities.

[FR Doc. 05-3687 Filed 2-24-05; 8:45 am]

BILLING CODE 6560-50-P